DEPARTMENT OF COMMERCE

Foreign-Trade Zones Board

[Docket 49-2006]

Foreign-Trade Subzone 133D—Davenport, IA; Expansion of Manufacturing Authority (Articulated Dump Trucks)

An application has been submitted to the Foreign-Trade Zones Board (the Board) by Deere & Company (Deere), operator of Subzone 133D, requesting authority for the manufacture of articulated dump trucks under FTZ procedures at the company's construction equipment manufacturing plant in Davenport, Iowa. The application was submitted pursuant to the provisions of the Foreign-Trade Zones Act, as amended (19 U.S.C. 81a-81u), and the regulations of the Board (15 CFR part 400). It was formally filed on December 28, 2006.

Subzone 133D (2.2 million square feet, 1,300 employees) was approved by the Board in 2001 at one site located at Highway 61 and Mt. Joy Road in Davenport (Board Order 1180, 66 FR 40673, 8/3/01). Deere's original manufacturing authority was granted for the manufacture of construction equipment (four-wheel-drive loaders, motor graders and wheeled log skidders). Deere is now requesting authority to manufacture up to several hundred articulated dump trucks (also known as haulers) annually under zone procedures. The company indicates that the foreign inputs that may be admitted under FTZ procedures include transmissions, axles, gear boxes, cabs and engines. Duty rates on the proposed imported components currently range from 2.5 to 4.0 percent.

This application requests authority for Deere to conduct the activity under FTZ procedures, which would exempt Deere from Customs duty payments on the foreign components used in export production. Approximately 12 percent of production is exported. On domestic sales, the company could choose the lower duty rate that applies to the finished product (duty free) for the foreign components noted above. The application indicates that FTZ-related savings would help improve the facility's international competitiveness.

In accordance with the Board's regulations, a member of the FTZ Staff has been designated examiner to investigate the application and report to the Board.

Public comment is invited from interested parties. Submissions (original and 3 copies) shall be addressed to the Board's Executive Secretary at the address listed below. The closing period for their receipt is March 12, 2007. Rebuttal comments in response to material submitted during the foregoing period may be submitted during the subsequent 15-day period (to March 27, 2007).

A copy of the application and accompanying exhibits will be available for public inspection at each of the following locations: Quad-City Foreign-Trade Zone, Inc., 1830 Second Avenue, Suite 200, Rock Island, Illinois 61201; and, Office of the Executive Secretary, Foreign-Trade Zones Board, Room 2814B, U.S. Department of Commerce, 1401 Constitution Avenue, NW., Washington, DC 20230.

Dated: December 28, 2006.
Andrew McGilvray,
Executive Secretary.

[FR Doc. E7-267 Filed 1-10-07; 8:45 am]

BILLING CODE 3510-DS-P